DEPARTMENT OF LABOR

Office of the Secretary

Submission for OMB Review; Comment Request

November 20, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by contacting the Department of Labor. To obtain documentation, contact Darrin King on (202) 693-4129 (this is not a toll-free number) or E-Mail: king.darrin@dol.gov.

Comments should be sent to Office of Information and Regulatory Affairs, Attn: OMB Desk Officer for the Employment standards Administration (ESA), Office of Management and Budget, Room 10235, Washington, DC 20503 (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Revision of a currently approved collection.

Agency: Employment Standards Administration.

Title: Claim for Medical Reimbursement Form.

OMB Number: 12156-0193.

Affected Public: Individuals or households; Business or other for-profit; and Not-for-profit institutions.

Frequency: As needed.

Type of Response: Reporting.

Number of Respondents: 33,727.

Number of Annual Responses: 134,908.

Estimated Time Per Response: 10 minutes.

Total Burden Hours: 22,394.

Total Annualized Capital/Startup Costs: $0.

Total Annual Costs (operating/maintaining systems or purchasing services): $163,239.

Description: The Office of Workers' Compensation Programs (OWCP) administers the Federal Employees' Compensation Act (FECA), 5 U.S.C. 8101, et seq., the Black Lung Benefits Act (BLBA), 30 U.S.C. 901 et seq., and the Energy Employees Occupational Illness Compensation Program Act of 2000 (EEOICPA), 42 U.S.C. 7384 et seq. These Acts require OWCP to pay for covered medical treatment that is provided to beneficiaries, and also to reimburse beneficiaries for any out-of-pocket covered medical expenses they have paid. Currently, respondents under BLBA use Form CM-915 (approved under OMB No. 1215-0052) to seek reimbursement for out-of-pocket medical expenses they have paid, while respondents under the EEOICPA use Form EE-915 (approved under OMB No. 1215-0197). OWCP is now seeking OMB approval for respondents under FECA, BLBA and EEOICPA using a new form (Form OWCP-915) for all three programs. Clearance of the OWCP-915 for use by beneficiaries from all three programs is a vital step in the unification of OWCP's separate medical bill processing systems under one contractor. The OWCP-915 provides a standardized format for the beneficiary to bill OWCP for recovery of fees paid in connection with their treatment.

Type of Review: Revision of a currently approved collection.

Agency: Employment Standards Administration.

Title: Pharmacy Billing Requirements.

OMB Number: 1215-0194.

Affected Public: Business or other for-profit; Not-for-profit institutions; and Individuals or households.

Frequency: On occasion.

Type of Response: Recordkeeping and Reporting.

Number of Respondents: 17,295.

Number of Annual Responses: 899,331.

Estimated Time Per Response: 5 minutes.

Total Burden Hours: 74,644.

Total Annualized Capital/Startup Costs: $0.

Total Annual Costs (operating/maintaining systems or purchasing services): $0.

Description: The Office of Workers' Compensation Programs (OWCP) administers the Federal Employees' Compensation Act (FECA), 5 U.S.C. 8101, et seq., the Black Lung Benefits Act (BLBA), 30 U.S.C. 901 et seq., and the Energy Employees Occupational Illness Compensation Program Act of 2000 (EEOICPA), 42 U.S.C. 7384 et seq. These Acts provide, in addition to compensation for employment-related injuries and/or illnesses, medical benefits in the form of prescription drugs dispensed by pharmacies for treatment of the compensable injury or illness. To determine whether bills submitted by pharmacies for medicinal drugs, equipment and supplies are appropriate, the FECA, BLBA, and EEOICPA programs require that the providers billing the government supply certain information. The majority of pharmacy bills submitted to OWCP are now submitted electronically using one of the industry-wide standard formats for the electronic transmissions of billing data through nationwide data clearinghouses devised by the National Council for Prescription Drug Programs (NCPDP). This recent development has led OWCP to drop Form 79-1A as the required paper billing format for this information collection. However, since some pharmacy bills are still submitted using paper-based billing formats, OWCP will continue to accept the paper-based bills as long as they contain the required data elements needed to process the bills. The NCPDP Standardized Pharmacy Billing Data Requirements are the electronic billing format used by pharmacies throughout the country to request payment for prescription drugs through data clearinghouses. They identify the provider, claimant, prescribing physician, drug by NDC (National Drug Code) number, prescription volume and charge. Similar data elements are required to process paper-based pharmacy bills.

Ira L. Mills,
Departmental Clearance Officer.

[FR Doc. 03-30077 Filed 12-2-03; 8:45 am]

BILLING CODE 4510-CH-M